DEPARTMENT OF TRANSPORTATION

Federal Motor Carrier Safety Administration

49 CFR Part 395

[Docket No. FMCSA-2018-0248]

RIN 2126-AC19

Hours of Service of Drivers

ACTION: Advance notice of proposed rulemaking (ANPRM); Extension of comment period.

SUMMARY: The Federal Motor Carrier Safety Administration (FMCSA) extends the comment period for its August 23, 2018, ANPRM concerning hours of service for drivers of property-carrying commercial motor vehicles (CMVs). FMCSA received requests for an extension to the comment period from a number of organizations, including the American Trucking Association, the Commercial Vehicle Safety Alliance, the International Brotherhood of Teamsters, the National Pork Producers Council, and the National Tank Truck Carriers, Inc. The Agency believes it is appropriate to extend the comment period to provide interested parties additional time to submit their responses to the ANPRM. Therefore, the Agency extends the deadline for the submission of comments from September 24, 2018, to October 10, 2018.

DATES: The comment period for the ANPRM published August 23, 2018 at 83 FR 42631 is extended. Comments on the ANPRM must be received on or before October 10, 2018.

ADDRESSES: You may submit comments identified by Docket Number FMCSA-2018-0248 using any one of the following methods:

Federal Rulemaking Portal: www.regulations.gov. Follow the online instructions for submitting comments.

Mail: Docket Management Facility, U.S. Department of Transportation, 1200 New Jersey Avenue SE, West Building Ground Floor, Room W12-140, Washington, DC 20590-0001.

Fax: 202-493-2251.

Hand Delivery or Courier: Docket Management Facility, U.S. Department of Transportation, 1200 New Jersey Avenue SE, West Building Ground Floor, Room W12-140, Washington, DC 20590-0001, between 9 a.m. and 5 p.m., Monday through Friday, except Federal holidays.

Submissions Containing Confidential Business Information (CBI): Mr. Brian Dahlin, Chief, Regulatory Evaluation Division, 1200 New Jersey Ave. SE, Washington, DC 20590.

To avoid duplication, please use only one of these four methods. See the “Public Participation and Request for Comments” heading under the SUPPLEMENTARY INFORMATION section below for instructions regarding submitting comments.

FOR FURTHER INFORMATION CONTACT: Mr. Tom Yager, Chief, Driver and Carrier Operations Division, Federal Motor Carrier Safety Administration, U.S. Department of Transportation, 1200 New Jersey Avenue SE, Washington, DC 20590, at (202) 366-4325, or via email: mcpsd@dot.gov.

If you have questions on viewing or submitting material to the docket, contact Docket Services, telephone (202) 366-9826.

SUPPLEMENTARY INFORMATION:

Public Participation and Request for Comments

FMCSA encourages you to participate by submitting comments and related materials.

Submitting Comments

If you submit a comment, please include the docket number for this notice (FMCSA-2018-0284), indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and enter either docket number, “FMCSA-2018-0284” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this proposed rule based on your comments. Late comments will be considered to the extent practicable.

Confidential Business Information

Confidential Business Information (CBI) is commercial or financial information that is customarily not made available to the general public by the submitted. Under the Freedom of Information Act, CBI is eligible for protection from public disclosure. If you have CVI that is relevant or responsive to this notice, it is important that you clearly designate the submitted comments as CBI. Accordingly, please mark each page of your submission as “confidential” or “CBI.” Submissions designated as CBI and meeting the definition noted above will not be placed in the public docket. Submissions containing CBI should be sent to Brian Dahlin, Chief, Regulatory Evaluation Division, 1200 New Jersey Ave. SE, Washington, DC 20590. Any commentary that FMCSA receives which is not specifically designated as CBI will be placed in the public docket for this rulemaking.

Viewing Comments and Documents

To view comments, as well as documents available in the docket, go to http://www.regulations.gov and insert the docket number, “FMCSA-2018-0248” in the “Keyword” box and click “Search.” Next, click “Open Docket Folder” button and choose the document listed to review. If you do not have access to the internet, you may view the docket online by visiting the Docket Management Facility in Room W12-140 on the ground floor of the DOT West Building, 1200 New Jersey Avenue SE, Washington, DC 20590, between 9 a.m. and 5 p.m., ET, Monday through Friday, except Federal holidays.

Privacy Act

Under 5 U.S.C. 553(c), DOT solicits comments from the public to better inform its potential rulemaking process. DOT posts these comments, without edit, including any personal information the commenter provides, to www.regulations.gov, as described in the system of records notice (DOT/ALL-14 FDMS), which can be reviewed at www.dot.gov/privacy.

Background

The August 23, 2018 ANPRM (83 FR 42631) asked for public comment on four subject areas: Short haul operations, adverse conditions, the 30-minute break, and the split-sleeper berth provision. The ANPRM also sought public comment on two petitions for rulemaking from the Owner-Operator Independent Drivers Association (OOIDA) and TruckerNation.

FMCSA held a public listening session on August 24, 2018, at the Great American Truck Show, in Dallas, Texas (83 FR 42630).

Extension of the Public Comment Period

The comment period for the ANPRM was set to expire on September 24, 2018 (83 FR 42631). FMCSA received several requests to extend the comment period, as noted above. Copies of the requests are included in the docket referenced at the beginning of this notice.

The organizations requested various lengths of time for the extension ranging from 30 to 60 days, stating that the additional time was needed to enable them to prepare more comprehensive responses based on research and information that has only recently been released or is expected to be released at upcoming industry meetings.

FMCSA has determined that extending the comment period would provide the organizations additional time to prepare more detailed comments that are reflective of the concerns of their members. Accordingly, FMCSA extends the comment period for all comments on the ANPRM to October 10, 2018.

Issued under the authority of delegations in 49 CFR 1.87: September 14, 2018.
Cathy F. Gautreaux,
Deputy Administrator.

[FR Doc. 2018-20430 Filed 9-19-18; 8:45 am]

BILLING CODE 4910-EX-P